DEPARTMENT OF ENERGY

Federal Energy Regulatory Commission

Combined Notice of Filings #1

Take notice that the Commission received the following electric corporate filings:

Docket Numbers: EC17-58-000.

Applicants: International Transmission Company.

Description: Application Pursuant to Section 203 of the Federal Power Act to Acquire New Assets of International Transmission Company.

Filed Date: 12/28/16.

Accession Number: 20161228-5204.

Comments Due: 5 p.m. ET 1/18/17.

Take notice that the Commission received the following electric rate filings:

Docket Numbers: ER10-2331-061; ER10-2317-052; ER10-2319-052; ER10-2330-059; ER13-1351-034.

Applicants: J.P. Morgan Ventures Energy Corporation, BE CA LLC, BE Alabama LLC, Florida Power Development LLC, Utility Contract Funding, L.L.C.

Description: Non-Material Change in Status of the J.P. Morgan Sellers.

Filed Date: 12/28/16.

Accession Number: 20161228-5211.

Comments Due: 5 p.m. ET 1/18/17.

Docket Numbers: ER10-2633-029; ER10-2570-029; ER10-2717-029; ER10-3140-029; ER13-55-019.

Applicants: Birchwood Power Partners, L.P., Shady Hills Power Company, L.L.C., EFS Parlin Holdings, LLC, Inland Empire Energy Center, LLC, Homer City Generation, L.P.

Description: Notice of Non-Material Change in Status of the GE Companies.

Filed Date: 12/28/16.

Accession Number: 20161228-5209.

Comments Due: 5 p.m. ET 1/18/17.

Docket Numbers: ER13-1504-003; ER10-2861-002; ER10-2866-002.

Applicants: SWG Arapahoe, LLC, SWG Colorado, LLC, Fountain Valley Power, LLC.

Description: Triennial Market Power Analysis for the Northwest Region of the Southwest Generation Operating Company Sellers.

Filed Date: 12/28/16.

Accession Number: 20161228-5106.

Comments Due: 5 p.m. ET 2/27/17.

Docket Numbers: ER17-75-002.

Applicants: PJM Interconnection, L.L.C.

Description: Tariff Amendment: Request to Hold Proceeding in Abeyance to be effective 12/31/9998.

Filed Date: 12/28/16.

Accession Number: 20161228-5094.

Comments Due: 5 p.m. ET 1/18/17.

Docket Numbers: ER17-692-000.

Applicants: Algonquin Power Sanger LLC.

Description: Baseline eTariff Filing: Application for Market Based Rate to be effective 1/1/2017.

Filed Date: 12/28/16.

Accession Number: 20161228-5161.

Comments Due: 5 p.m. ET 1/18/17.

Docket Numbers: ER17-693-000.

Applicants: Valley Electric Association, Inc.

Description: § 205(d) Rate Filing: Annual TRBA Filing to be effective 1/1/2017.

Filed Date: 12/28/16.

Accession Number: 20161228-5165.

Comments Due: 5 p.m. ET 1/18/17.

Docket Numbers: ER17-694-000.

Applicants: California Independent System Operator Corporation.

Description: § 205(d) Rate Filing: 2016-12-28 Transmission Control Agreement Amendment to be effective 3/1/2017.

Filed Date: 12/28/16.

Accession Number: 20161228-5166.

Comments Due: 5 p.m. ET 1/18/17.

Docket Numbers: ER17-695-000.

Applicants: California Independent System Operator Corporation.

Description: § 205(d) Rate Filing: 2016-12-28 Third Amendment to Valley Electric Transition Agreement to be effective 3/1/2017.

Filed Date: 12/28/16.

Accession Number: 20161228-5167.

Comments Due: 5 p.m. ET 1/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2016.
Nathaniel J. Davis, Sr.,
Deputy Secretary.

[FR Doc. 2016-32042 Filed 1-4-17; 8:45 am]

BILLING CODE 6717-01-P